DEPARTMENT OF TRANSPORTATION

National Highway Traffic Safety Administration

Petition for Exemption From the Federal Motor Vehicle Motor Theft Prevention Standard; Jaguar Land Rover

AGENCY: National Highway Traffic Safety Administration, Department of Transportation (DOT).

ACTION: Grant of petition for exemption.

SUMMARY: This document grants in full the petition of Jaguar Land Rover North America's, (Land Rover) petition for an exemption of the Range Rover Evoque vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard (49 CFR part 541).

DATES: The exemption granted by this notice is effective beginning with the 2012 model year.

FOR FURTHER INFORMATION CONTACT: Ms. Carlita Ballard, Office of International Policy, Fuel Economy and Consumer Programs, NHTSA, W43-439, 1200 New Jersey Avenue, SE., Washington, DC 20590. Ms. Ballard's phone number is (202) 366-5222. Her fax number is (202) 493-2990.

SUPPLEMENTARY INFORMATION: In a petition dated November 22, 2010, Land Rover requested an exemption from the parts-marking requirements of the theft prevention standard (49 CFR Part 541) for the Range Rover Evoque vehicle line beginning with MY 2012. The petition has been filed pursuant to 49 CFR part 543, Exemption from Vehicle Theft Prevention Standard, based on the installation of an antitheft device as standard equipment for the entire vehicle line.

Under § 543.5(a), a manufacturer may petition NHTSA to grant an exemption for one vehicle line per model year. In its petition, Land Rover provided a detailed description and diagram of the identity, design, and location of the components of the antitheft device for the Range Rover Evoque vehicle line. Land Rover stated that the Range Rover Evoque vehicles will be equipped with a passive, transponder based, electronic engine immobilizer antitheft device as standard equipment beginning with the 2012 model year. Key components of its antitheft device will include a power train module, instrument cluster, body control module, remote frequency receive immobilizer antenna unit, smart key, door control units and a perimeter alarm system. The immobilizer device is automatically immobilized when the Smart Key is removed from the vehicle. Land Rover stated that the Smart Key is programmed and synchronized to the vehicle by means of a unique identification code key and a secret code key which is randomly generated and unique to each vehicle. Additionally, Land Rover states that its antitheft device will include an audible and visual perimeter alarm system as standard equipment that can be armed manually or programmed to arm automatically with the Smart Key. If the hood, luggage compartment, or doors are opened during an unauthorized entry, the vehicle siren alarm will sound and the exterior lights will flash.

Land Rover stated that there are three methods of vehicle operation and engine start: (1) Pulling the driver's door handle with correct Smart Key authentication, and pressing the ignition start button; (2) unlocking the vehicle with the Smart Key unlock button; and (3) using the emergency key blade.

In addressing the specific content requirements of 543.6, Land Rover provided information on the reliability and durability of its proposed device. To ensure reliability and durability of the device, Land Rover conducted tests based on its own specified standards. Land Rover provided a detailed list of the tests conducted (i.e., temperature and humidity cycling, high and low temperature cycling, mechanical shock, random vibration, thermal stress/shock tests, material resistance tests, dry heat, dust and fluid ingress tests). Land Rover stated that it believes that its device is reliable and durable because it complied with specified requirements for each test. Additionally, Land Rover stated that the vehicle's key recognition sequence includes in excess of a billion code combinations with encrypted data that is secure against copying. The coded data transfer between modules also use a unique secure identifier, random number and secure public algorithm.

Land Rover stated that since the Range Rover Evoque is a new vehicle line, there is no data from a previous generation vehicle to compare theft rate data, although, it stated, the immobilizer in the Range Rover Evoque is substantially similar to the antitheft device installed on the MY 2010 Jaguar XJ vehicle line that was previously granted an exemption by the agency on November 16, 2009. Land Rover stated that based on 2006-2008 MY theft data information published by NHTSA, Land Rover vehicles equipped with immobilizers had theft rates that were below the median. Land Rover also stated that the immobilizer in the Range Rover Evoque line is no less effective than devices NHTSA has already granted full exemptions (i.e., Jaguar XK and XJ). Additionally, Land Rover submitted a Highway Loss Data Institute news release (July 19, 2000) showing an approximate 50% reduction in theft for vehicles installed with an immobilizer device.

Based on the evidence submitted by Land Rover, the agency believes that the antitheft device for the Range Rover Evoque vehicle line is likely to be as effective in reducing and deterring motor vehicle theft as compliance with the parts-marking requirements of the Theft Prevention Standard (49 CFR 541).

Pursuant to 49 U.S.C. 33106 and 49 CFR 543.7(b), the agency grants a petition for exemption from the parts-marking requirements of Part 541, either in whole or in part, if it determines that, based upon substantial evidence, the standard equipment antitheft device is likely to be as effective in reducing and deterring motor vehicle theft as compliance with the parts-marking requirements of Part 541. The agency finds that Land Rover has provided adequate reasons for its belief that the antitheft device for the Range Rover Evoque vehicle line is likely to be as effective in reducing and deterring motor vehicle theft as compliance with the parts-marking requirements of the Theft Prevention Standard (49 CFR part 541). This conclusion is based on the information Land Rover provided about its device.

The agency concludes that the device will provide the five types of performance listed in § 543.6(a)(3): Promoting activation; attracting attention to the efforts of an unauthorized person to enter or move a vehicle by means other than a key; preventing defeat or circumvention of the device by unauthorized persons; preventing operation of the vehicle by unauthorized entrants; and ensuring the reliability and durability of the device.

For the foregoing reasons, the agency hereby grants in full Land Rover's petition for exemption for the Range Rover Evoque vehicle line from the parts-marking requirements of 49 CFR part 541. The agency notes that 49 CFR part 541, Appendix A-1, identifies those lines that are exempted from the Theft Prevention Standard for a given model year. 49 CFR 543.7(f) contains publication requirements incident to the disposition of all Part 543 petitions. Advanced listing, including the release of future product nameplates, the beginning model year for which the petition is granted and a general description of the anti-theft device is necessary in order to notify law enforcement agencies of new vehicle lines exempted from the parts marking requirements of the Theft Prevention Standard.

If Land Rover decides not to use the exemption for this line, it should formally notify the agency. If such a decision is made, the line must be fully marked according to the requirements under 49 CFR 541.5 and 541.6 (marking of major component parts and replacement parts).

NHTSA notes that if Land Rover wishes in the future to modify the device on which this exemption is based, the company may have to submit a petition to modify the exemption. Part 543.7(d) states that a Part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: March 1, 2011.
Joseph S. Carra,
Acting Associate Administrator for Rulemaking.

[FR Doc. 2011-4952 Filed 3-3-11; 8:45 am]

BILLING CODE 4910-59-P